DEPARTMENT OF COMMERCE

Office of the Secretary

Estimates of the Voting Age Population for 2017

AGENCY: Office of the Secretary, Commerce.

ACTION: General notice announcing population estimates.

SUMMARY: This notice announces the voting age population estimates as of July 1, 2017 for each state and the District of Columbia. We are providing this notice in accordance with the 1976 amendment to the Federal Election Campaign Act.

FOR FURTHER INFORMATION CONTACT: Karen Battle, Chief, Population Division, U.S. Census Bureau, Room HQ-6H174, 4600 Silver Hill Road, Washington, DC 20233. Phone: 301-763-2071.

SUPPLEMENTARY INFORMATION: Under the requirements of the 1976 amendment to the Federal Election Campaign Act, Title 52, United States Code, Section 30116(e), I hereby give notice that the estimates of the voting age population for July 1, 2017 for each state and the District of Columbia are as shown in the following table.

Estimates of the Voting Age Population for Each State and the District of Columbia: July 1, 2017
Area | Population 18 and over
United States | 252,063,800
Alabama | 3,779,274
Alaska | 554,867
Arizona | 5,382,780
Arkansas | 2,298,739
California | 30,476,517
Colorado | 4,345,321
Connecticut | 2,844,358
Delaware | 757,455
District of Columbia | 569,480
Florida | 16,782,417
Georgia | 7,914,681
Hawaii | 1,121,794
Idaho | 1,273,151
Illinois | 9,904,838
Indiana | 5,093,409
Iowa | 2,413,764
Kansas | 2,200,585
Kentucky | 3,443,650
Louisiana | 3,575,930
Maine | 1,083,273
Maryland | 4,704,671
Massachusetts | 5,489,864
Michigan | 7,785,662
Minnesota | 4,277,949
Mississippi | 2,270,533
Missouri | 4,730,561
Montana | 821,604
Nebraska | 1,444,343
Nevada | 2,312,576
New Hampshire | 1,084,022
New Jersey | 7,026,626
New Mexico | 1,599,980
New York | 15,694,902
North Carolina | 7,971,073
North Dakota | 579,621
Ohio | 9,053,374
Oklahoma | 2,971,579
Oregon | 3,269,157
Pennsylvania | 10,141,022
Rhode Island | 852,307
South Carolina | 3,919,695
South Dakota | 654,810
Tennessee | 5,208,482
Texas | 20,938,557
Utah | 2,175,134
Vermont | 506,832
Virginia | 6,600,844
Washington | 5,759,927
West Virginia | 1,446,139
Wisconsin | 4,512,839
Wyoming | 442,832
Source: U.S. Census Bureau, Population Division, Vintage 2017 Population Estimates.

I have certified these estimates for the Federal Election Commission.

Dated: February 1, 2018.
Wilbur Ross,
Secretary, U.S. Department of Commerce.

[FR Doc. 2018-03372 Filed 2-16-18; 8:45 am]

BILLING CODE 3510-07-P